DEPARTMENT OF TRANSPORTATION

Federal Aviation Administration

14 CFR Part 71

[Airspace Docket No. 99-ANM-14]

RIN 2120-AA66

Alteration of VOR Federal Airway; CO

AGENCY: Federal Aviation Administration (FAA), DOT.

ACTION: Final rule.

SUMMARY: This action eliminates a segment of Federal Airway V-382 (V-382) between Bryce Canyon, UT, Very High Frequency Omnidirectional Range/Tactical Air Navigation (VORTAC) and Grand Junction, CO, VORTAC. The FAA is taking this action to delete a portion of the airway because the flight inspection found the current route segment unusable for navigation.

EFFECTIVE DATE: 0901 UTC, January 25, 2001.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION:

Background

On July 5, 2000, the FAA proposed to amend 14 CFR part 71 (part 71) to eliminate a segment of V-382 (65 FR 41388). This action was considered necessary due to the failure of repeated flight inspections on this segment of V-382. Interested parties were invited to participate in this rulemaking by submitting written comments on the proposal to the FAA. No comments were received. Except of editorial changes, this amendment is the same as that proposed in the notice.

The Rule

The FAA is amending part 71 to modify V-382 by eliminating the route segment between Bryce Canyon and Grand Junction, CO, VORTAC. Since 1998, V-382 has been unusable between Bryce Canyon, UT, VORTAC and the Grand Junction, CO, VORTAC. This segment of V-382 no longer passes flight inspection and is out of service. The action retains the route segment from Grand Junction, CO, VORTAC to Durango, CO, VORTAC.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Domestic VOR Federal airways are published in paragraph 6010(a) of FAA Order 7400.9H dated September 1, 2000, and effective September 16, 2000, which is incorporated by reference in 14 CFR 71.1. The Domestic VOR Federal airway listed in this document would be published subsequently in the order.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9H, Airspace Designations and Reporting Points, dated September 1, 2000, and effective September 16, 2000, is amended as follows:

Paragraph 6010(a) Domestic VOR Federal Airways.

* * * * *

V-382 [Revised]

From Grand Junction, CO; Cones, CO; to Durango, CO.

* * * * *

Issued in Washington, DC, on November 13, 2000.
Reginald C. Matthews,
Manager, Airspace and Rules Division.

[FR Doc. 00-29659 Filed 11-17-00; 8:45 am]

BILLING CODE 4910-13-U